ENVIRONMENTAL PROTECTION AGENCY

[FRL-6912-3]

ILCO Superfund Site; Notice of Proposed Settlement

AGENCY: Environmental Protection Agency (EPA).

ACTION: Notice of proposed settlement.

SUMMARY: The United States Environmental Protection Agency is proposing to enter into two settlement agreements with a total of 45 de-minimis parties for response costs pursuant to section 122(g) of the Comprehensive Environmental Response, Compensation, and Liability Act (CERCLA) regarding the Interstate Lead Company (ILCO) Superfund Site located in Leeds, Alabama. EPA will consider public comments on the proposed settlements for thirty (30) days. EPA may withdraw from or modify the proposed settlements should such comments disclose facts or considerations which indicate the proposed settlement is inappropriate, improper or inadequate. Copies of the proposed settlements are available from: Ms. Paula V. Batchelor, U.S. EPA, Region 4 (WMD-PSB), Sam Nunn Atlanta Federal Center, 61 Forsyth Street SW., Atlanta, Georgia 30303, (404) 562-8887.

Written comments may be submitted to Ms. Batchelor on or before January 5, 2001.

Dated: November 20, 2000.
Anita Davis,
Acting Chief, CERCLA Program Services Branch, Waste Management Division.

[FR Doc. 00-31052 Filed 12-5-00; 8:45 am]

BILLING CODE 6560-50-U